DEPARTMENT OF TRANSPORTATION

Federal Highway Administration

Notice of Final Federal Agency Actions on Proposed Highway in Washington

AGENCY: Federal Highway Administration (FHWA), DOT.

ACTION: Notice of limitation on claims for judicial review of actions by FHWA.

SUMMARY: This notice announces actions taken by the FHWA that are final within the meaning of 23 U.S.C. 139(l)(1). The actions relate to a proposed highway project, the SR 520, Medina to SR 202: Eastside Transit and HOV Project, in the State of Washington. Those actions grant approval for the project.

DATES: By this notice, the FHWA is advising the public of final agency actions subject to 23 U.S.C. 139(l)(1). A claim seeking judicial review of the Federal agency actions on the highway project will be barred unless the claim is filed within 180 days of the date of publication of this notice. If the Federal law that authorizes judicial review of a claim provides a time period of less than 180 days for filing such claim, then that shorter time period still applies.

FOR FURTHER INFORMATION CONTACT: Randolph Everett, Major Projects Oversight Manager, Federal Highway Administration, Jackson Federal Building, 915 2nd Avenue, Room 3142, Seattle, Washington 98174; telephone: (206) 220-7538; and e-mail: randolph.everett@dot.gov. The FHWA Washington Division's Oversight Manager's regular office hours are between 8 a.m. and 4:30 p.m. (Pacific Time). You may also contact Allison Hanson, Director of Environmental Services—Mega Projects, SR 520 Bridge Replacement and HOV Program Office, 600 Stewart Street, Suite 520, Seattle, Washington 98101; telephone: 206-382-5279; and e-mail: HansonA@wsdot.wa.gov. The SR 520 Project's regular office hours are between 8 a.m. and 5 p.m. (Pacific Time).

SUPPLEMENTARY INFORMATION: Notice is hereby given that the FHWA has taken final agency actions by issuing approval for the following highway project: The SR 520, Medina to SR 202: Eastside Transit and HOV Project. The purpose of the project is to enhance transit time reliability, mobility, access, and safety for transit and carpools in the rapidly growing areas along the SR 520 corridor east of Lake Washington. The project limits extend approximately 8.8 miles along SR 520 from the east shore of Lake Washington at Evergreen Point Road to the interchange at SR 202 in Redmond. The project spans the communities of Medina, Hunts Point, Yarrow Point, Clyde Hill, Kirkland, Bellevue, and Redmond.

The actions by the FHWA on this project, and the laws under which such actions were taken, are described in the December 2009 Environmental Assessment (EA), May 2010 Updated EA, May 2010 Finding of No Significant Impact (FONSI), and in other documents in the FHWA administrative record for the project. The EA, Updated EA, FONSI and other documents in the FHWA administrative record are available by contacting the FHWA or the Washington State Department of Transportation at the addresses provided above.

The EA, Updated EA, and FONSI can be viewed and downloaded from the project Web site at http://wsdot.wa.gov/Projects/SR520Bridge/ or viewed at local libraries in the project area.

This notice applies to all Federal agency decisions on the project as of the issuance date of this notice and all laws under which such actions were taken, including but not limited to:

1. General: National Environmental Policy Act [42 U.S.C. 4321-4347]; Federal-Aid Highway Act [23 U.S.C. 109].

2. Air: Clean Air Act, as amended [42 U.S.C. 7401-7671(q)].

3. Land: Section 4(f) of the Department of Transportation Act of 1966 [49 U.S.C. 303].

4. Wildlife: Endangered Species Act [16 U.S.C. 1531-1544]; Section 7 of the Endangered Species Act [16 U.S.C. 1536]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)].

6. Social and Economic: Civil Rights Act of 1964 [42 U.S.C. 2000(d)-2000(d)(1)]; the Uniform Relocation Assistance and Real Property Acquisition Policies Act of 1970, as amended [42 U.S.C. Chapter 61].

7. Wetlands and Water Resources: Section 7 of the Endangered Species Act [16 U.S.C. 1536]; Clean Water Act, (Section 319 [33 U.S.C. 1329]); Coastal Zone Management Act [16 U.S.C. 1451]; Safe Drinking Water Act [42 U.S.C. 300(f)-300(j)(6)]; Rivers and Harbors Act of 1899 [33 U.S.C. 403-407].

8. Hazardous Materials: Comprehensive Environmental Response, Compensation, and Liability Act [42 U.S.C. 9601-9675]; Resource Conservation and Recovery Act [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: May 17, 2010.
Daniel M. Mathis,
Division Administrator, Olympia, Washington.

[FR Doc. 2010-12353 Filed 5-21-10; 8:45 am]

BILLING CODE 4910-RY-P